DEPARTMENT OF HOMELAND SECURITY

Federal Emergency Management Agency

44 CFR Part 65

[Docket ID FEMA-2011-0002; Internal Agency Docket No. FEMA-B-1215]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Benton | City of Bentonville (11-06-3300P) | July 1, 2011; July 8, 2011; The Benton County Daily Record | The Honorable Bob McCaslin, Mayor, City of Bentonville, 117 West Central Avenue, Bentonville, AR 72712 | November 7, 2011 | 050012
New Mexico: Dona Ana | City of Las Cruces (11-06-1405P) | June 23, 2011; June 30, 2011; The Las Cruces Sun-News | The Honorable Kenneth Daniel Gallegos Miyagishima, Mayor, City of Las Cruces, 700 North Main Street, Las Cruces, NM 88001 | June 16, 2011 | 355332
New York:
Bronx | City of New York (10-02-2163P) | December 24, 2010; December 31, 2010; The Chief | The Honorable Michael R. Bloomberg, Mayor, City of New York, City Hall, 260 Broadway, New York, NY 10007 | June 16, 2011 | 360497
Monroe | Town of Pittsford (11-02-0382P) | December 2, 2010; December 9, 2010; The Brighton-Pittsford Post | The Honorable William A. Carpenter, Supervisor, Town of Pittsford, 11 South Main Street, Pittsford, NY 14534 | May 24, 2011 | 360429
Niagara | Town of Wheatfield (10-02-1141P) | October 29, 2010; November 5, 2010; The Niagara Gazette | The Honorable Robert B. Cliffe, Supervisor, Town of Wheatfield, 2800 Church Road, Wheatfield, NY 14120 | September 20, 2010 | 360513
Pennsylvania:
Chester | Township of Caln (10-03-1911P) | December 7, 2010; December 14, 2010; The Daily Local News | Mr. Gregory E. Prowant, AICP, Caln Township Manager, 253 Municipal Drive, Thorndale, PA 19372 | April 13, 2011 | 422247
Chester | Township of West Goshen (10-03-1283P) | March 4, 2011; March 11, 2011; The Daily Local News | The Honorable Edward G. Meakim, Jr., Chairman, Township of West Goshen Board of Supervisors, 1025 Paoli Pike, West Chester, PA 19380 | February 25, 2011 | 420293
Dauphin | Township of West Hanover (10-03-2139P) | April 7, 2011; April 14, 2011; The Patriot-News | The Honorable Adam Klein, Chairman, Township of West Hanover Board of Supervisors, 7171 Allentown Boulevard, Harrisburg, PA 17112 | August 12, 2011 | 421600
Collin | City of Plano (10-06-0997P) | June 23, 2011; June 30, 2011; The Plano Star Courier | The Honorable Phil Dyer, Mayor, City of Plano, 1520 Avenue K, Plano, TX 75074 | August 31, 2010 | 480140
Comal | City of New Braunfels (11-06-0637P) | May 31, 2011; June 7, 2011; The New Braunfels Herald-Zeitung | The Honorable Bruce Boyer, Mayor, City of New Braunfels, 424 South Castell Avenue, New Braunfels, TX 78130 | October 5, 2011 | 485493
Dallas and Tarrant | City of Grand Prairie (10-06-1790P) | May 27, 2011; June 3, 2011; The Dallas Morning News | The Honorable Charles England, Mayor, City of Grand Prairie, P.O. Box 534045, 206 West Church Street, Grand Prairie, TX 75053 | October 3, 2011 | 485472
Dallas | City of Irving (10-06-0922P) | June 1, 2011; June 8, 2011; The Dallas Morning News | The Honorable Herbert A. Gears, Mayor, City of Irving, 825 West Irving Boulevard, Irving, TX 75060 | October 6, 2011 | 480180
Jefferson | City of Beaumont (10-06-1909P) | June 30, 2011; July 7, 2011; The Beaumont Enterprise | The Honorable Becky Ames, Mayor, City of Beaumont, P.O. Box 3827, Beaumont, TX 77704, 801 Main Street, Beaumont, TX 77701 | November 4, 2011 | 485457
Nueces | City of Corpus Christi (11-06-0948P) | June 14, 2011; June 21, 2011; The Corpus Christi Caller-Times | The Honorable Joe Adame, Mayor, City of Corpus Christi, 1201 Leopard Street, Corpus Christi, TX 78401 | June 7, 2011 | 485464
Wise | City of Bridgeport (11-06-3042P) | June 9, 2011; June 16, 2011; The Bridgeport Index | The Honorable Keith McComis, Mayor, City of Bridgeport, 900 Thompson Street, Bridgeport, TX 76426 | October 14, 2011 | 480677
Wise | Unincorporated areas of Wise County (11-06-3042P) | June 9, 2011; June 16, 2011; The Wise County Messenger | The Honorable Bill McElhaney, Wise County Judge, P.O. Box 393, 101 North Trinity Street, Suite 101, Decatur, TX 76234 | October 14, 2011 | 481051
Virginia:
Fairfax | Unincorporated areas of Fairfax County (11-03-0675P) | May 6, 2011; May 13, 2011; The Washington Times | The Honorable Sharon Bulova, Chairman, Fairfax County Board of Supervisors, 12000 Government Center Parkway, Suite 530, Fairfax, VA 22035 | May 31, 2011 | 515525
Richmond | City of Richmond (10-03-0790P) | February 11, 2011; February 18, 2011; The Richmond Times-Dispatch | The Honorable Dwight C. Jones, Mayor, City of Richmond, 900 East Broad Street, Suite 201, Richmond, VA 23219 | June 20, 2011 | 510129

(Catalog of Federal Domestic Assistance No. 97.022, “Flood Insurance.”)

Dated: September 9, 2011.
Sandra K. Knight,
Deputy Associate Administrator for Mitigation, Department of Homeland Security, Federal Emergency Management Agency.

[FR Doc. 2011-24275 Filed 9-20-11; 8:45 am]

BILLING CODE 9110-12-P